COMMISSION ON CIVIL RIGHTS

Sunshine Act Notice

AGENCY: United States Commission on Civil Rights.

ACTION: Notice of meeting.

DATE AND TIME: Friday, June 25, 2010; 11:30 a.m. EDT.

PLACE: Via Teleconference. Public Dial In: 1-800-597-7623, Conference ID # 82122192.

Meeting Agenda

This meeting is open to the public, except where noted otherwise.

I. Approval of Agenda

II. State Advisory Committee Issues

• Florida SAC

III. Program Planning

• Consideration of Discovery Plan and Project Outline for Report on Sex Discrimination in Liberal Arts College Admissions

IV. Adjourn

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: June 15, 2010.
David Blackwood,
General Counsel.

[FR Doc. 2010-14825 Filed 6-15-10; 4:15 pm]

BILLING CODE 6335-01-P